ENVIRONMENTAL PROTECTION AGENCY

[ER-FRL-9042-1]

Environmental Impact Statements; Notice of Availability

Responsible Agency: Office of Federal Activities, General Information 202-564-5632 or https://www.epa.gov/nepa/.

Weekly receipt of Environmental Impact Statements

Filed 10/22/2018 Through 10/26/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180258, Final, FERC, LA, Calcasieu Pass Project, Review Period Ends: 12/03/2018, Contact: Office of External Affairs 866-208-3372.

EIS No. 20180259, Draft, USFS, OR, Ragged Ruby, Comment Period Ends: 12/17/2018, Contact: Sasha Fertig 541-575-3061.

EIS No. 20180260, Draft Supplement, USFS, ND, Northern Great Plains Management Plans Revision (Dakota Prairie Oil and Gas RFDS SEIS), Comment Period Ends: 12/17/2018, Contact: Leslie Ferguson 701-989-7308.

EIS No. 20180261, Final, USACE, AK, Nanushuk Project, Review Period Ends: 12/03/2018, Contact: Ellon Lyons 907-474-2169.

EIS No. 20180262, Final, USFS, AK, Prince of Wales Landscape Level Analysis Project, Review Period Ends: 12/17/2018, Contact: Delilah Brigham 907-828-3232.

EIS No. 20180263, Draft, FERC, TX, Texas LNG Project, Comment Period Ends: 12/17/2018, Contact: Office of External Affairs 866-208-3372.

Amended Notices

EIS No. 20180251, Final, NJDEP, NJ, Rebuild by Design (RBD) Meadowlands Flood Control Project, Review Period Ends: 11/26/2018, Contact: Dennis Reinknecht 609-984-0556 Revision to FR Notice Published 10/26/2018; Correcting Lead Agency from HUD to NJDEP.

Dated: October 29, 2018.
Robert Tomiak,
Director, Office of Federal Activities.

[FR Doc. 2018-23896 Filed 11-1-18; 8:45 am]

BILLING CODE 6560-50-P